DEPARTMENT OF COMMERCE

National Oceanic and Atmospheric Administration

50 CFR Part 648

[Docket No. 250623-0112]

RTID 0648-XE313

Fisheries of the Northeastern United States; Mid-Atlantic Blueline Tilefish and Golden Tilefish Fisheries; Final 2025-2027 Golden Tilefish Specifications and 2025 Blueline Tilefish Specifications

AGENCY: National Marine Fisheries Service (NMFS), National Oceanic and Atmospheric Administration (NOAA), Commerce.

ACTION: Final rule.

SUMMARY: This final rule implements and informs the public of specifications for the 2025 fishing year for the golden tilefish and the blueline tilefish fishery north of the North Carolina/Virginia border and projects specifications for golden tilefish in 2026 and 2027. This action is necessary to establish allowable harvest levels and other management measures to prevent overfishing while allowing optimum yield, consistent with the Magnuson-Stevens Fishery Conservation and Management Act (Magnuson-Stevens Act) and the Tilefish Fishery Management Plan (Tilefish FMP).

DATES: This rule is effective June 26, 2025.

ADDRESSES: Copies of the Supplemental Information Reports (SIR) prepared for this action, and other supporting documents for these proposed specifications, are available from Dr. Christopher M. Moore, Executive Director, Mid-Atlantic Fishery Management Council, 800 North State Street, Suite 201, Dover, DE 19901. These documents are also accessible via the internet at http://www.mafmc.org.

FOR FURTHER INFORMATION CONTACT: Matthew Rigdon, Fishery Management Specialist, (978) 281-9336.

SUPPLEMENTARY INFORMATION:

Background

The golden tilefish fishery and the blueline tilefish fishery north of the North Carolina/Virginia border are managed under the Tilefish FMP, which outlines the process for establishing annual specifications. The Tilefish FMP requires the Mid-Atlantic Fishery Management Council (Council) to recommend acceptable biological catch (ABC), an annual catch limit (ACL), an annual catch target (ACT), total allowable landings (TAL), and other management measures for the commercial and recreational sectors of the fisheries. The Council's Scientific and Statistical Committee (SSC) provides ABC recommendations for both species to the Council to derive these catch limits. The Council makes recommendations to NMFS that cannot exceed the SSC's ABC recommendation. The Council's recommendations must include supporting documentation concerning the environmental, economic, and social impacts of the recommendations. NMFS reviews these recommendations and, if they are approved, publishes the specifications in the Federal Register. A proposed rule for these specifications was published on April 1, 2025 (90 FR 14350), and comments were accepted through April 16, 2025. Additional information on the process for setting these specifications is contained in the proposed rule and is not repeated here.

Final Specifications

This action implements status quo recreational blueline tilefish management measures and specifications for 2025, with a lower commercial TAL reduced by the commercial overage in 2024. Preliminary analysis indicates commercial landings exceeded the 2024 ACL by 5,975 pounds (lb; 2.7 metric tons (mt)). The regulations require an overage to be deducted in the following year. The resulting specifications are summarized in table 1.

Table 1—Blueline Tilefish Specifications for 2025 With 2024 Specifications for Comparison
Specification | 2024 | 2025
ABC—North of NC/VA line | 100,520 lb (45.6 mt) | 100,520 lb (45.6 mt).
Recreational ACL | 73,380 lb (33.3 mt) | 73,380 lb (33.3 mt).
Recreational TAL | 71,912 lb (32.6 mt) | 71,912 lb (32.6 mt).
Commercial ACL | 27,140 lb (12.3 mt) | 27,140 lb (12.3 mt).
Overage Adjustment | −4,470 lb (2.0 mt) | −5,975 lb (−2.7 mt).
Adjusted Commercial ACL | 22,670 lb (10.3 mt) | 21,165 lb (9.6 mt).
Commercial TAL | 22,399 lb (10.2 mt) | 20,894 lb (9.5 mt).

The directed golden tilefish fishery is managed under an individual fishing quota (IFQ) program, with a small amount of non-IFQ catch allowed under an incidental permit. This action implements 2025 and projects 2026 and 2027 specifications for golden tilefish. This action implements a constant-ABC approach, which members of the golden tilefish fishing industry have historically supported. The final specifications for golden tilefish are detailed in table 2.

Table 2—Golden Tilefish Specifications for 2025-2027 With 2024 Specifications for Comparison
Specification | 2024 | 2025-2027
ABC | 1,964,319 lb (891 mt) | 1,878,338 lb (852 mt).
ACL | 1,964,319 lb (891 mt) | 1,878,338 lb (852 mt).
IFQ ACT | 1,763,478 lb (800 mt) | 1,733,109 lb (786 mt).
Incidental ACT | 92,815 lb (42 mt) | 91,216 lb (41 mt).
IFQ TAL | 1,763,478 lb (800 mt) | 1,728,590 lb (784 mt).
Incidental TAL | 75,410 lb (34 mt) | 68,949 lb (31 mt).

This action does not change the landing limits for non-IFQ commercial fisheries. A vessel fishing under a non-IFQ Federal commercial tilefish vessel permit will continue to be prohibited from possessing gutted golden tilefish amounting to more than 500 lb (227 kilograms (kg)) or 50 percent by weight of the total of all species being landed, whichever is less. This landing limit does not apply to a vessel authorized to land golden tilefish under a Tilefish IFQ permit. A vessel fishing under a non-IFQ commercial tilefish permit will also continue to be prohibited from possessing more than 500 lb (227 kg) of gutted blueline tilefish per trip. If 70 percent of the blueline tilefish commercial TAL is landed, the Regional Administrator may reduce the blueline tilefish possession limit to 300 lb (136 kg).

This action does not change the recreational management measures for golden or blueline tilefish. Any vessel used to fish recreationally for golden or blueline tilefish must have the appropriate Federal vessel permit. Boats used to take anglers for hire must have the Charter/Party Tilefish Permit, while private recreational vessels need to have the Private Recreational Tilefish Permit. Both permit types require the submission of vessel trip reports. Additional information about permitting and reporting requirements is available from the Greater Atlantic Regional Fisheries Office's Permits Office at (978) 282-8438 or NMFS.GAR.Permits@noaa.gov.

The 2025 fishing year for golden tilefish and blueline tilefish began on January 1, 2025. The regulations include rollover provisions for both species that allow the fisheries to operate under status quo specifications until new specifications are approved.

Comments and Responses

We received three comments on the proposed rule. Two of the comments received were not relevant to this rule and are, therefore, not discussed further. No changes were made from the proposed action.

Comment: The commenter is an individual who is not directly involved in either the golden or the blueline tilefish fisheries. The commenter expressed general support for the action and the need for, and importance of, setting specifications for the tilefish fisheries to prevent overfishing from occurring. The comment notes that specification-setting is also economically important for the industry which utilizes the resource.

Response: NMFS agrees. This action approves 2025 specifications for blueline and golden tilefish and projects 2026 and 2027 golden tilefish specifications.

Classification

NMFS is issuing this rule pursuant to section 305(d) of the Magnuson Stevens Act (16 U.S.C. 1855(d)). In a previous action taken pursuant to section 304(b) of the Magnuson-Stevens Act (16 U.S.C. 1854(b)), the FMP and implementing regulations created the process by which specifications are developed through a NMFS rulemaking process distinct from that of 304(b). See 50 CFR 648.292. As such, NMFS is issuing this rule pursuant to section 305(d). The NMFS Assistant Administrator has determined that this final rule is consistent with the Tilefish FMP, other provisions of the Magnuson-Stevens Act, and other applicable law.

There is good cause under 5 U.S.C. 553(d)(3) to waive the 30-day delay in effective date. The 2025 fishing year began on January 1, 2025, operating under a rollover provision using specifications from the prior fishing year. This is a routine specifications action that occurs every year, and stakeholder and industry groups have been involved with the development of this action and have participated in public meetings throughout its development. Further delay in the date of effectiveness would be contrary to the public interest as it could increase confusion in the tilefish industry around current quotas. The 2025 fishing year quotas are slightly lower than the quotas from the prior year that are currently in effect, so continued delay in the effectiveness of this rule could increase the risk of overages that may result in overfishing. Furthermore, regulated parties do not require any additional time to come into compliance with this rule and a 30-day delay before the final rule becomes effective does not provide any benefit. Unlike actions that require an adjustment period, tilefish fishing vessels will not have to purchase new equipment or otherwise expend time or money to comply with these management measures. Rather, complying with this final rule simply means adhering to the new catch limits set for the 2025 fishing year. Finally, fishery stakeholders have also been involved in the development of this action and are anticipating this rule. For these reasons, there is good cause not to delay the effective date of this final rule, consistent with 5 U.S.C. 553(d)(3), and to implement this action upon publication in the Federal Register.

This final rule is exempt from review under Executive Orders 12866 and 14192.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

Authority: 16 U.S.C. 1801 et seq.

Dated: June 23, 2025.
Samuel D. Rauch III,
Deputy Assistant Administrator for Regulatory Programs, National Marine Fisheries Service.

[FR Doc. 2025-11725 Filed 6-25-25; 8:45 am]

BILLING CODE 3510-22-P